SMALL BUSINESS ADMINISTRATION

[Declaration of Disaster #3396]

State of California

San Diego County and the contiguous counties of Imperial, Orange and Riverside in the State of California constitute a disaster area as a result of damages caused by a severe wildfire that occurred February 10 through February 14, 2002. Applications for loans for physical damage as a result of this disaster may be filed until the close of business on April 22, 2002 and for economic injury until the close of business on November 19, 2002 at the address listed below or other locally announced locations:

U.S. Small Business Administration, Disaster Area 4 Office, P. O. Box 13795, Sacramento, CA 95853-4795.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Other (Including Non-Profit Organizations) With Credit Available Elsewhere | 6.375
For Economic Injury:
Businesses and Small Agricultural Cooperatives Without Credit Available Elsewhere | 3.500

The number assigned to this disaster for physical damage is 339605 and for economic damage is 905700.

(Catalog of Federal Domestic Assistance Program Nos. 59002 and 59008)

Dated: February 19, 2002.
Hector V. Barreto,
Administrator.

[FR Doc. 02-4504 Filed 2-25-02; 8:45 am]

BILLING CODE 8025-01-P